NUCLEAR REGULATORY COMMISSION

[NRC-2012-0002]

Sunshine Federal Register Notice

AGENCY HOLDING THE MEETINGS: Nuclear Regulatory Commission.

DATE: Weeks of January 9, 16, 23, 30, February 6, 13, 2012.

PLACE: Commissioners' Conference Room, 11555 Rockville Pike, Rockville, Maryland.

STATUS: Public and Closed.

Week of January 9, 2012

Wednesday, January 11, 2012

10 a.m. Discussion of Management and Personnel Issues (Closed—Ex. 2 and 6)

1 p.m. Briefing on Proposed Rule to Revise the Environmental Review for Renewal of Nuclear Power Plant Operating Licenses (Part 51) (Public Meeting) (Contact: Jeremy Susco, (301) 415-2927)

This meeting will be webcast live at the Web address: www.nrc.gov.

Week of January 16, 2012—Tentative

There are no meetings scheduled for the week of January 16, 2012.

Week of January 23, 2012—Tentative

There are no meetings scheduled for the week of January 23, 2012.

Week of January 30, 2012—Tentative

There are no meetings scheduled for the week of January 30, 2012.

Week of February 6, 2012—Tentative

Thursday, February 9, 2012

9 a.m. Briefing on Status of Outreach and Educational Efforts with External Stakeholders Related to the Safety Culture Policy Statement (Public Meeting) (Contact: Diane Sieracki, (301) 415-3297)

This meeting will be webcast live at the Web address: www.nrc.gov.

Week of February 13, 2012—Tentative

There are no meetings scheduled for the week of February 13, 2012.

* * * * *

*The schedule for Commission meetings is subject to change on short notice. To verify the status of meetings, call (recording)—(301) 415-1292. Contact person for more information: Rochelle Bavol, (301) 415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at (301) 415-6200, TDD: (301) 415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 ((301) 415-1969), or send an email to darlene.wright@nrc.gov.

Dated: January 5, 2012.
Rochelle C. Bavol,
Policy Coordinator, Office of the Secretary.

[FR Doc. 2012-337 Filed 1-6-12; 4:15 pm]

BILLING CODE 7590-01-P